DEPARTMENT OF COMMERCE

National Oceanic and Atmospheric Administration

Intent To Distribute Digital Electronic Navigational Charts on the Internet

AGENCY: Office of Coast Survey, National Ocean Service, National Oceanic and Atmospheric Administration (NOAA), DOC.

ACTION: Notice.

SUMMARY: NOAA's National Ocean Service (NOS) is announcing its intention to distribute digital Electronic Navigational Charts (ENC) of U.S. waters on the Internet.

This notice announces that NOS intends to distribute digital ENC's of U.S. waters via the Internet beginning on or about July 16, 2001. NOS plans to post its ENC's and associated updates on the World Wide Web with the data accessible to all users.

The purpose of distributing ENC's in this manner is to promote maximum availability of these valuable data, which have primary application in navigation and in a broad range of Geographic Information System (GIS) activities. For users interested in navigational applications, the data will be posted at NOAA's Office of Coast Survey Web Site, www.chartmaker.nos.noaa.gov.

Initially digital ENC's will be provided as prototype products. At the outset, the data will not be supported by regular updates. Therefore, these ENC's should jot be used for navigation. Rather, during this initial period, the intent is for users to familiarize themselves with downloading procedures and for NOS to evaluate the products and to determine the level of support necessary to maintain the distribution service. Once NOS develops and implements an update process and assuming that no problems are identified during the initial phase and that such problems are resolved, NOS intends to make the ENC's available for use in navigation. The NOS ENC products are designed in compliance with the International Hydrographic Organization's S-57 ENC Product Specification.

Initially, ENC's will be available for the nation's 40 major ports. However, NOS plans to expand coverage as resources become available. The ENC data posted on the Web will not be encrypted, but may have some type of authentication built in, such as a digital watermark, so that end users can verify that data issued by NOS has not been corrupted.

NOS does not intend to limit access to or restrict use of ENC's available on the Internet. However, NOS does plan to develop specific procedures for users who wish to incorporate these ENC's in products designed to satisfy chart carriage requirements mandated by the International Safety Of Life At Sea Convention (SOLAS) and the U.S. Code of Federal Regulations. This means that users planning to provide value added navigation products must establish a certifiable process by which NOS ENC data are incorporated in the products without compromise to the data quality or data lineage.

NOS intends to issue guidelines governing the certification process for derived navigational products. Among the guidelines under consideration are: (1) The operation of a quality assurance system that is in essential compliance with a recognized quality standard, such as ISO 9000 series or equivalent and (2) the certification by a United States Coast Guard-approved quality standards organization that results in products being consistently manufactured to the same specification.

Once NOS makes its ENC's available on the Web, it anticipates that industry will develop services in support of derived products. For example, a portfolio management service or an ENC distributor may provide NOS ENC's “as-is” and “push” the appropriate updates to a segment of users who choose not to download the data directly. Likewise, a system manufacturer may bundle or re-sell the ENC's by converting the data to a proprietary “System ENC” (SENC) before distributing it to customers. In the latter case, the SENC product and supporting updates must be based on a certifiable process by which there is no compromise to NOS-provided data. Further, since ENC's will be provided in the open, non-proprietary S-57 format, NOS anticipates that most users will be well versed in the format and its feature attribution. With this in mind, it is expected that S-57 technical support will be provided by expertise available in the private sector.

The coastal management community, a major NOAA constituency, will also benefit from this distribution policy in that ENC data will be widely available for use as base map information in a variety of GIS applications. Coastal managers, emergency planners, and others will have easy access to ENC data. To assist these users, NOAA will investigate means to convert the data to a format that is more suitable for GIS applications and to post it in a manner similar to the navigational data. However, the level of specialized technical support by NOS is expected to be limited.

NOS intends to conduct several workshops in order to familiarize the public with the distribution policy, to entertain comments from interested parties on its implementation, to consider complaints with the distribution of prototype products and to answer questions pertaining to the use of ENC's for production of derived navigational products and for GIS related applications. The workshops will be announced in the NOS Web sites, www.nos.noaa.gov, and the Office of Coast Survey, noted above, and by mail to NOS constituents.

NOS plans to conduct an initial briefing that will be open to the general public concerning its plan to release ENC's on the Internet. The briefing will be held at 9 AM, July 11, 2001, Room 4527, 1315 East-West Highway, Silver Spring, Maryland. Members of the public who plan on attending this briefing should contact Mike Brown at (301)-713-2712 x153 or e-mail Mike.Brown@noaa.gov.

NOS has been in contact with the U.S. Coast Guard concerning 33 CFR 164.33, Nautical Charts and Publications, as it pertains to this announced policy. Questions concerning those regulations should be addressed to the Director of Waterways Management, United States Coast Guard, Washington, DC 20593-0001.

NOS is publishing this notice consistent with section 8a(6)(j) of the Office of Management and Budget Circular A-130. Anyone with comments or questions regarding this subject should address them to Captain Nicholas Perugini, NOAA, Chief, Marine Chart Division, Office of Coast Survey, NOS/NOAA, 1315 East-West Highway, Silver Spring, Maryland 20910-3282.

FOR FURTHER INFORMATION CONTACT: Captain Nicholas E. Perugini, NOAA, Chief, Marine Chart Division, Office of Coast Survey, NOS/NOAA 1315 East-West Highway, Silver Spring, Maryland 20910-3282, 301-713-2724, Extension 101, FAX: 301-713-4516.

Dated: June 7, 2001.
Margaret A. Davidson,
Acting Assistant Administrator for Ocean Services and Coastal Zone Management.

[FR Doc. 01-14974 Filed 6-13-01; 8:45 am]

BILLING CODE 3510-22-M